SMALL BUSINESS ADMINISTRATION

13 CFR Part 120

RIN 3245-AF49

Business Loan Program; Lender Examination and Review Fees

AGENCY: U.S. Small Business Administration (SBA).

ACTION: Proposed rule, notice of reopening of comment period and correction.

SUMMARY: On September 5, 2006, SBA published in the Federal Register a proposed rule on Business Loan Program; Lender Examination and Review Fees (71 FR 52296). This proposed rule implements a recent amendment to the Small Business Act authorizing SBA to assess fees to lenders participating in SBA's 7(a) loan guarantee program to cover the costs of examinations, reviews, and other Lender Oversight activities. The original comment period was from September 5, 2006, through October 5, 2006. SBA is reopening the comment period until November 9, 2006. Given the significant level of interest the proposed rule has generated, SBA believes the affected parties would find it beneficial to have more time to review the proposal and prepare their comments.

In addition SBA is correcting the Addresses section of the proposed rule by eliminating the Agency Web Site address and amending the E-mail address to Proposedfeerule@sba.gov.

DATES: Comments on the proposed rule on Business Loan Program, Lender Examination and Review Fees, 71 FR 52296, must be received on or before November 9, 2006.

ADDRESSES: You may submit comments, identified by RIN number 3245-AF49, by any of the following methods:

• Federal eRulemaking Portal: http://www.regulations.gov. Follow the instructions for submitting comments.

• E-mail: Proposedfeerule@sba.gov.

• Fax: (202) 205-6831.

• Mail/ Hand Delivery/Courier: Bryan Hooper, Associate Administrator for Lender Oversight, Small Business Administration, 409 3rd Street, SW., 8th floor, Washington, DC 20416.

FOR FURTHER INFORMATION CONTACT: John M. White, Deputy Associate Administrator, Office of Lender Oversight at (202) 205-3049, john.white@sba.gov; or Paul Bishop, Financial Analyst, Office of Lender Oversight, (202) 205-7516; paul.bishop@sba.gov.

(Authority: 15 U.S.C. 363)

Dated: October 4, 2006.
Michael W. Hager,
Associate Deputy Administrator for the Office of Capital Access.

[FR Doc. E6-16750 Filed 10-6-06; 8:45 am]

BILLING CODE 8025-01-P